COMMODITY FUTURES TRADING COMMISSION

Chicago Board of Trade: Proposed Amendments to the Chicago Board of Trade: Corn, Corn Yield Insurance (Six Contracts), Oats, Rough Rice, Soybeans, Soybean Meal, Soybean Oil, Wheat, Kilo Gold, 100 Ounce Gold, 1000 Ounce Silver, and 5000 Ounce Silver Futures Contracts, Increasing the Contracts, Maximum Daily Price Fluctuation Limits

AGENCY: Commodity Futures Trading Commission.

ACTION: Notice of availability of proposed amendments to contract terms and conditions.

SUMMARY: The Chicago Board of Trade (CBOT or Exchange) has submitted proposed amendments which would increase the maximum daily price fluctuation limits for the Exchange's corn, corn yield insurance (six contracts), oats, rough rice, soybeans, soybean meal, soybean oil, wheat, kilo gold, 100 ounce silver, and 5000 ounce silver futures contracts. The CBT's proposals are described below. The proposed amendments were submitted under the Commission's 45-day Fast Track procedures which provides that, absent any contrary action by the Commission, the proposed amendments may be deemed approved on July 10, 2000—45 days after the Commission's receipt of the proposals. The Acting Director of the Division of Economic Analysis (Division) of the Commission, acting pursuant to the authority delegated by Commission Regulation 140.96, has determined that publication of the proposed amendments is in the public interest and will assist the Commission in considering the views of interested persons.

DATES: Comments must be received on or before June 23, 2000.

ADDRESSES: Interested persons should submit their views and comments to Jean A. Webb, Secretary, Commodity Futures Trading Commission, Three Lafayette Centre, 21st Street, NW, Washington, DC 20581. In addition, comments may be sent by facsimile transmission to facsimile number (202) 418-5521, or by electronic mail to secretary@cftc.gov. Reference should be made to the proposed amendments to the CBOT's maximum daily price fluctuation limits.

FOR FURTHER INFORMATION CONTACT: Please contact John Bird of the Division of Economic Analysis, Commodity Futures Trading Commission, Three Lafayette Centre, 21st Street NW, Washington, DC 20581, telephone (202) 418-5274. Facsimile number: (202) 418-5527. Electronic mail: jbird@cftc.gov

SUPPLEMENTARY INFORMATION: Currently, the CBOT's rules specify maximum daily price fluctuation limits for the subject contracts that are applicable to trading until the second business day prior to the first business day of the expiring delivery month. No daily price limits are applicable to trading during the expiring contract month. The contracts' existing terms also provide for expansion of the maximum daily price fluctuation limits under specified circumstances. The existing terms of the option contracts based on the subject futures contracts specify that daily fluctuations in option premiums are subject to the same limits as are specified for the underlying futures contract.

The CBOT is proposing to increase the maximum daily price fluctuation limits for the subject contracts as shown below:

Contract | Proposed limit | Existing limit
Corn | $.20 per bushel | $.12 per bushel.
Corn Yield Insurance (Iowa, Illinois, Indiana, Nebraska, Ohio and U.S.) | 22.5 bushels per harvested acre | 15 bushels per harvested acre.
Kilo gold | $75.00 per ounce | $50.00 per ounce.
100 Ounce Gold | $75.00 per ounce | $50.00 per ounce.
Oats | $.20 per bushel | $.10 per bushel.
Rough Rice | $.50 per hundredweight | $.30 per hundredweight.
1000 Ounce Silver | $1.50 per ounce | $1.00 per ounce.
5000 Ounce Silver | $1.50 per ounce | $1.00 per ounce.
Soybeans | $.50 per bushel | $.30 per bushel.
Soybean Meal | $20.00 per ton | $10.00 per ton.
Soybean Oil | $.020 per pound | $.010 per pound.
Wheat | $.30 per bushel | $.20 per bushel.

The proposed amendments also would delete the contracts' existing provisions that provide for expansion of the maximum daily price fluctuation limits under specified circumstances. Since the option contracts specify that maximum daily premium fluctuation limits are subject to the same price limits specified for the underlying futures contracts, the proposed amendments also will increase the limits on daily premium fluctuations for such option contracts. Under the proposed amendments, trading in all contract months listed for particular futures or option contract would cease for the rest of the trading session when the prices for one or more contract months go to the revised limits. The Exchange intends to make the proposed amendments effective upon Commission approval for all existing and newly listed contract months.

In support of the proposed amendments, the Exchange said that:

The CBOT/Eurex Alliance electronic trading system does not have the ability to implement daily price limits electronically. Therefore, Electronic Trading System (ETS) staff would be required to halt trading manually when prices reached specified limits. If one futures contract month for a commodity goes to a limit, this event would trigger a manual shutdown of all futures contract months and the market would remain shut down for the remainder of the trading session. Likewise, if one option contract months and strike price goes to a limit, trading in all option contract months and strike prices would be terminated for the remainder of the session. Increasing the limits would reduce the number of occurrences of manual trading halts.

Price limits were established because of a perceived need for a “cooling off period” for futures when a major news release or event causes prices to move substantially. However, price limits, by their very nature, prevent futures markets from discovering the market price at times when market participants would most like to have that price information (i.e. after a major news release or other event). Widening daily price limits will allow the agricultural and metals futures markets to better reflect cash price movements and will provide greater access for market users during periods of uncertainty.

The CBOT also said that:

The proposed increases in price limits will increase the probability that the futures markets will continue to trade and provide a price discovery function following a major news release or unexpected event. This in turn will provide the marketplace with a benchmark price from which to base cash prices and production, marketing and buying decisions.

The Commission is requesting comments on the proposed amendments.

Copies of the proposed amendments will be available for inspection at the Office of the Secretariat, Commodity Futures Trading Commission, Three Lafayette Centre, 21st Street NW., Washington, DC 20581. Copies of the proposed amendments can be obtained through the Office of the Secretariat by mail at the above address, by phone at (202) 418-5100, or via the Internet at secretary@cftc.gov.

Other materials submitted by the Exchange in support of the proposal may be available upon request pursuant to the Freedom of Information Act (5 U.S.C. 552) and the Commission's regulations thereunder (17 CFR part 145 (1987)), except to the extent they are entitled to confidential treatment as set forth in 17 CFR 145.5 and 145.9. Requests for copies of such material should be made to the FOI, Privacy and Sunshine Act Compliance Staff of the Office of Secretariat at the Commission's headquarters in accordance with 17 CFR 145.7 and 145.8

Any person interested in submitting written data, views, or arguments on the proposed amendments, or with respect to other materials submitted by the Exchange, should send such comments to Jean A. Webb, Secretary, Commmodity Futures Trading Commission, Three Lafayette Centre, 21st Street NW, Washington, DC 20581 by the specified date.

Issued in Washington, DC, on June 2, 2000.
Richard Shilts,
Acting Director.

[FR Doc. 00-14383 Filed 6-07-00; 8:45 am]

BILLING CODE 6351-01-M